DEPARTMENT OF TRANSPORTATION

Federal Motor Carrier Safety Administration

[Docket No. FMCSA-2015-0346]

Qualification of Drivers; Exemption Applications; Vision

AGENCY: Federal Motor Carrier Safety Administration (FMCSA), DOT.

ACTION: Notice of denials.

SUMMARY: FMCSA announces its denial of 100 applications from individuals who requested an exemption from the Federal vision standard applicable to interstate truck and bus drivers and the reasons for the denials. FMCSA has statutory authority to exempt individuals from the vision requirement if the exemptions granted will not compromise safety. The Agency has concluded that granting these exemptions does not provide a level of safety that will be equivalent to, or greater than, the level of safety maintained without the exemptions for these commercial motor vehicle (CMV) drivers.

FOR FURTHER INFORMATION CONTACT: Charles A. Horan, III, Director, Carrier, Driver and Vehicle Safety Standards, (202) 366-4001, fmcsamedical@dot.gov, FMCSA, Department of Transportation, 1200 New Jersey Avenue SE., Room W64-224, Washington, DC 20590-0001. Office hours are from 8:30 a.m. to 5 p.m., Monday through Friday, except Federal holidays.

SUPPLEMENTARY INFORMATION:

Background

Under 49 U.S.C. 31136(e) and 31315, FMCSA may grant an exemption from the Federal vision standard for a renewable 2-year period if it finds “such an exemption would likely achieve a level of safety that is equivalent to or greater than the level that would be achieved absent such an exemption.” The procedures for requesting an exemption are set forth in 49 CFR part 381.

Accordingly, FMCSA evaluated 100 individual exemption requests on their merit and made a determination that these applicants do not satisfy the criteria eligibility or meet the terms and conditions of the Federal exemption program. Each applicant has, prior to this notice, received a letter of final disposition on the exemption request. Those decision letters fully outlined the basis for the denial and constitute final Agency action. The list published in this notice summarizes the Agency's recent denials as required under 49 U.S.C. 31315(b)(4) by periodically publishing names and reasons for denial.

The following 14 applicants had no experience operating a CMV:

Charles A. Bell

William R. J. Brown

Reginald Davis, Jr.

Ian S. Gunning

Lionel J. Kelley Jr.

Nina Y. Lenthe

Armando Moronez, Jr.

Daryl S. Payton

Michael Picklesimer

Andre A. Taft

Mark O. Teeter

Caitlin Teves

William D. Wright

Laura L. Zomlot

The following 24 applicants did not have 3 years of experience driving a CMV on public highways with their vision deficiencies:

Shawn T. Cobbs

Glen D. Crawford

David Dibb

Armando Duval Sr.

Jamie A. Edson

Roger Ferry

Robert C. Findley

Jose A. Flores

Karl D. Graves

William A. Lamkie

Runger H. Langston

Bradley W. Lovelace

Tyrone Marrs

Edmund R. Morrison, IV

Alan L. Ofstad

John N. Pozworski

Stanley Reed

Tyrone M. Reese

Phillip A. Reilly

Walter A. Robidoux

Rodger L. Shaver

Monty W. Torrance

Scott A. Van Zandt

Neil D. Wangsness

The following 10 applicants did not have three years of recent experience driving a CMV with the vision deficiency:

Jason L. Cash

Stanley L. Gordon

John A. Gwinn

Terry L. Haggerty

Ryan A. Hale

Trish A. Melvin

Michele L. Mickelson

Daniel G. Vaughan

Ornando K. Welsey

Leonard F. Wood

The following 3 applicants did not have sufficient driving experience during the past three years under normal highway operating conditions:

Michael E. Jones

Robert C. Lemke

Eric R. Padgett

The following applicant, Mark L. Julin, was charged with a moving violation(s) in conjunction with a CMV accident(s).

The following applicant, Randall K. Robertson, does not have sufficient peripheral vision in the better eye to qualify for an exemption.

The following 6 applicants had their commercial driver's licenses suspended during the previous 3-year period:

Charles E. Calhoun

Darrin G. Coffee

Jason Lennon

Mark Matthews

Christopher W. Moore

Carlton Yuille

The following applicant, Kenton D. McCullough, contributed to an accident(s) while operating a CMV.

The following 11 applicants were denied for multiple reasons:

Keith J. Berger

Matthew R. Carricaburu

Bill Castillo

Randal A. Ferguson

Scott A. Hambleton

Melvin Nelson

Luis R. Olivas

Benajmin M. Pirner

Russell T. Snorek

Blake E. Spires

Gerard R. Talbot

The following 2 applicants did not have stable vision for the entire three-year period:

Trent C. McCain

William D. Wallace

The following applicant, Jakob Dueck, is a Canadian citizen.

The following 2 applicants do not meet the vision standard in the better eye:

Michael S. Watson

WM C. White, Jr.

The following 8 applicants met the current federal vision standards. Exemptions are not required for applicants who meet the current regulations for vision:

Paul Blanford

Joel C. Conrad

Dillon R. Dupont

Christopher S. Fant

Michael J. Hinkle

Byron C. Pratt

John E. Reiter

Jerry L. Vandervegt

The following 14 applicants were denied because they will not be driving interstate, interstate commerce, or are not required to carry a DOT medical card:

Gary Bridgewater, Jr.

Robert W. Dunn

Lawrence S. Frick

William D. Hauser

Jesus Hernandez, Jr.

Steven E. Herrick

Gina M. Kiser

Travis McCoy

Roy R. Owens

William D. Robinson

Luis Romero

Jonathan A. Slatten

Raymond Stonaker

Tammy S. Whitford

Finally, the following 2 applicants perform transportation for the federal government, state, or any political sub-division of the state.

Scott A. Lamb

Richard M. Marti

Issued on: January 6, 2016.
Larry W. Minor,
Associate Administrator for Policy.

[FR Doc. 2016-00657 Filed 1-13-16; 8:45 am]

BILLING CODE 4910-EX-P